DEPARTMENT OF ENERGY

Federal Energy Regulatory Commission

Combined Notice of Filings #1

Take notice that the Commission received the following exempt wholesale generator filings:

Docket Numbers: EG12-85-000.

Applicants: Shiloh IV Wind Project, LLC.

Description: Notice of Self-Certification of Exempt Wholesale Generator Status of Shiloh IV Wind Project, LLC.

Filed Date: 7/10/12.

Accession Number: 20120710-5150.

Comments Due: 5 p.m. ET 7/31/12.

Take notice that the Commission received the following electric rate filings:

Docket Numbers: ER12-1911-001.

Applicants: RE McKenzie 1 LLC.

Description: RE McKenzie 1 LLC submits tariff filing per 35.17(b): Amended Application for Market-Based Rate Authority to be effective 7/31/2012.

Filed Date: 7/10/12.

Accession Number: 20120710-5116.

Comments Due: 5 p.m. ET 7/31/12.

Docket Numbers: ER12-1912-001.

Applicants: RE McKenzie 2 LLC.

Description: Amended Application for Market-Based Rate Authority to be effective 7/31/2012.

Filed Date: 7/10/12.

Accession Number: 20120710-5126.

Comments Due: 5 p.m. ET 7/31/12.

Docket Numbers: ER12-1913-001.

Applicants: RE McKenzie 3 LLC.

Description: Amended Application for Market-Based Rate Authority to be effective 7/31/2012.

Filed Date: 7/10/12.

Accession Number: 20120710-5129.

Comments Due: 5 p.m. ET 7/31/12.

Docket Numbers: ER12-1915-001.

Applicants: RE McKenzie 4 LLC.

Description: Amended Application for Market-Based Rate Authority to be effective 7/31/2012.

Filed Date: 7/10/12.

Accession Number: 20120710-5131.

Comments Due: 5 p.m. ET 7/31/12.

Docket Numbers: ER12-1916-001.

Applicants: RE McKenzie 5 LLC.

Description: Amended Application for Market-Based Rate Authority to be effective 7/31/2012.

Filed Date: 7/10/12.

Accession Number: 20120710-5138.

Comments Due: 5 p.m. ET 7/31/12.

Docket Numbers: ER12-1917-001.

Applicants: RE McKenzie 6 LLC.

Description: Amended Application for Market-Based Rate Authority to be effective 7/31/2012 under ER12-1917 Filing Type: 120.

Filed Date: 7/10/12.

Accession Number: 20120710-5140.

Comments Due: 5 p.m. ET 7/31/12.

Docket Numbers: ER12-2085-001.

Applicants: PJM Interconnection, L.L.C.

Description: Errata to Amendments to OATT Sch 12-Appx re RTEP approved by PJM Board 5/17/2012 to be effective 9/19/2012.

Filed Date: 7/10/12.

Accession Number: 20120710-5144.

Comments Due: 5 p.m. ET 7/31/12.

Docket Numbers: ER12-2224-000.

Applicants: California Independent System Operator Corporation.

Description: CAISO's Amendment 6 to the PLA with CDWR to be effective 7/10/2012.

Filed Date: 7/10/12.

Accession Number: 20120710-5115.

Comments Due: 5 p.m. ET 7/31/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 11, 2012.
Nathaniel J. Davis, Sr.,
Deputy Secretary.

[FR Doc. 2012-17429 Filed 7-17-12; 8:45 am]

BILLING CODE 6717-01-P